DEPARTMENT OF TRANSPORTATION

Federal Motor Carrier Safety Administration

[Docket No. FMCSA-2001-9561; FMCSA-2003-15892; FMCSA-2005-20560; FMCSA-2005-21254; FMCSA-2005-21711; FMCSA-2007-25246; FMCSA-2007-27897; FMCSA-2008-0266; FMCSA-2009-0121; FMCSA-2009-0154; FMCSA-2010-0327; FMCSA-2010-0385; FMCSA-2011-0024; FMCSA-2011-0092; FMCSA-2011-0124; FMCSA-2011-0140; FMCSA-2011-0142; FMCSA-2011-0189; FMCSA-2013-0026; FMCSA-2013-0027; FMCSA-2013-0029; FMCSA-2013-0030; FMCSA-2013-0165; FMCSA-2014-0302; FMCSA-2015-0048; FMCSA-2015-0049; FMCSA-2015-0052; FMCSA-2015-0053; FMCSA-2015-0055; FMCSA-2016-0212; FMCSA-2016-0214; FMCSA-2017-0016; FMCSA-2017-0018; FMCSA-2017-0019; FMCSA-2017-0020; FMCSA-2017-0023]

Qualification of Drivers; Exemption Applications; Vision

AGENCY: Federal Motor Carrier Safety Administration (FMCSA), DOT.

ACTION: Notice of renewal of exemptions; request for comments.

SUMMARY: FMCSA announces its decision to renew exemptions for 95 individuals from the vision requirement in the Federal Motor Carrier Safety Regulations (FMCSRs) for interstate commercial motor vehicle (CMV) drivers. The exemptions enable these individuals to continue to operate CMVs in interstate commerce without meeting the vision requirements in one eye.

DATES: Each group of renewed exemptions were applicable on the dates stated in the discussions below and will expire on the dates stated in the discussions below. Comments must be received on or before October 7, 2019.

ADDRESSES: You may submit comments identified by the Federal Docket Management System (FDMS) Docket No. FMCSA-2001-9561, FMCSA-2003-15892, FMCSA-2005-20560, FMCSA-2005-21254, FMCSA-2005-21711, FMCSA-2007-25246, FMCSA-2007-27897, FMCSA-2008-0266, FMCSA-2009-0121, FMCSA-2009-0154, FMCSA-2010-0327, FMCSA-2010-0385, FMCSA-2011-0024, FMCSA-2011-0092, FMCSA-2011-0124, FMCSA-2011-0140, FMCSA-2011-0142, FMCSA-2011-0189, FMCSA-2013-0026, FMCSA-2013-0027, FMCSA-2013-0029, FMCSA-2013-0030, FMCSA-2013-0165, FMCSA-2014-0302, FMCSA-2015-0048, FMCSA-2015-0049, FMCSA-2015-0052, FMCSA-2015-0053, FMCSA-2015-0055, FMCSA-2016-0212, FMCSA-2016-0214, FMCSA-2017-0016, FMCSA-2017-0018, FMCSA-2017-0019, FMCSA-2017-0020, or FMCSA-2017-0023 using any of the following methods:

• Federal eRulemaking Portal: Go to http://www.regulations.gov. Follow the online instructions for submitting comments.

• Mail: Docket Management Facility; U.S. Department of Transportation, 1200 New Jersey Avenue SE, West Building Ground Floor, Room W12-140, Washington, DC 20590-0001.

• Hand Delivery: West Building Ground Floor, Room W12-140, 1200 New Jersey Avenue SE, Washington, DC, between 9 a.m. and 5 p.m., ET, Monday through Friday, except Federal Holidays.

• Fax: (202) 493-2251.

To avoid duplication, please use only one of these four methods. See the “Public Participation” portion of the SUPPLEMENTARY INFORMATION section for instructions on submitting comments.

FOR FURTHER INFORMATION CONTACT: Ms. Christine A. Hydock, Chief, Medical Programs Division, (202) 366-4001, fmcsamedical@dot.gov, FMCSA, Department of Transportation, 1200 New Jersey Avenue SE, Room W64-224, Washington, DC 20590-0001. Office hours are from 8:30 a.m. to 5 p.m., ET, Monday through Friday, except Federal holidays. If you have questions regarding viewing or submitting material to the docket, contact Docket Services, (202) 366-9826.

SUPPLEMENTARY INFORMATION:

I. Public Participation

A. Submitting Comments

If you submit a comment, please include the docket number for this notice (Docket No. FMCSA-2001-9561, FMCSA-2003-15892, FMCSA-2005-20560, FMCSA-2005-21254, FMCSA-2005-21711, FMCSA-2007-25246, FMCSA-2007-27897, FMCSA-2008-0266, FMCSA-2009-0121, FMCSA-2009-0154, FMCSA-2010-0327, FMCSA-2010-0385, FMCSA-2011-0024, FMCSA-2011-0092, FMCSA-2011-0124, FMCSA-2011-0140, FMCSA-2011-0142, FMCSA-2011-0189, FMCSA-2013-0026, FMCSA-2013-0027, FMCSA-2013-0029, FMCSA-2013-0030, FMCSA-2013-0165, FMCSA-2014-0302, FMCSA-2015-0048, FMCSA-2015-0049, FMCSA-2015-0052, FMCSA-2015-0053, FMCSA-2015-0055, FMCSA-2016-0212, FMCSA-2016-0214, FMCSA-2017-0016, FMCSA-2017-0018, FMCSA-2017-0019, FMCSA-2017-0020, or FMCSA-2017-0023), indicate the specific section of this document to which each comment applies, and provide a reason for each suggestion or recommendation. You may submit your comments and material online or by fax, mail, or hand delivery, but please use only one of these means. FMCSA recommends that you include your name and a mailing address, an email address, or a phone number in the body of your document so that FMCSA can contact you if there are questions regarding your submission.

To submit your comment online, go to http://www.regulations.gov, put the docket number, FMCSA-2001-9561, FMCSA-2003-15892, FMCSA-2005-20560, FMCSA-2005-21254, FMCSA-2005-21711, FMCSA-2007-25246, FMCSA-2007-27897, FMCSA-2008-0266, FMCSA-2009-0121, FMCSA-2009-0154, FMCSA-2010-0327, FMCSA-2010-0385, FMCSA-2011-0024, FMCSA-2011-0092, FMCSA-2011-0124, FMCSA-2011-0140, FMCSA-2011-0142, FMCSA-2011-0189, FMCSA-2013-0026, FMCSA-2013-0027, FMCSA-2013-0029, FMCSA-2013-0030, FMCSA-2013-0165, FMCSA-2014-0302, FMCSA-2015-0048, FMCSA-2015-0049, FMCSA-2015-0052, FMCSA-2015-0053, FMCSA-2015-0055, FMCSA-2016-0212, FMCSA-2016-0214, FMCSA-2017-0016, FMCSA-2017-0018, FMCSA-2017-0019, FMCSA-2017-0020, or FMCSA-2017-0023, in the keyword box, and click “Search.” When the new screen appears, click on the “Comment Now!” button and type your comment into the text box on the following screen. Choose whether you are submitting your comment as an individual or on behalf of a third party and then submit.

If you submit your comments by mail or hand delivery, submit them in an unbound format, no larger than 8½ by 11 inches, suitable for copying and electronic filing. If you submit comments by mail and would like to know that they reached the facility, please enclose a stamped, self-addressed postcard or envelope.

FMCSA will consider all comments and material received during the comment period.

B. Viewing Documents and Comments

To view comments, as well as any documents mentioned in this notice as being available in the docket, go to http://www.regulations.gov. Insert the docket number, FMCSA-2001-9561, FMCSA-2003-15892, FMCSA-2005-20560, FMCSA-2005-21254, FMCSA-2005-21711, FMCSA-2007-25246, FMCSA-2007-27897, FMCSA-2008-0266, FMCSA-2009-0121, FMCSA-2009-0154, FMCSA-2010-0327, FMCSA-2010-0385, FMCSA-2011-0024, FMCSA-2011-0092, FMCSA-2011-0124, FMCSA-2011-0140, FMCSA-2011-0142, FMCSA-2011-0189, FMCSA-2013-0026, FMCSA-2013-0027, FMCSA-2013-0029, FMCSA-2013-0030, FMCSA-2013-0165, FMCSA-2014-0302, FMCSA-2015-0048, FMCSA-2015-0049, FMCSA-2015-0052, FMCSA-2015-0053, FMCSA-2015-0055, FMCSA-2016-0212, FMCSA-2016-0214, FMCSA-2017-0016, FMCSA-2017-0018, FMCSA-2017-0019, FMCSA-2017-0020, or FMCSA-2017-0023, in the keyword box, and click “Search.” Next, click the “Open Docket Folder” button and choose the document to review. If you do not have access to the internet, you may view the docket online by visiting the Docket Management Facility in Room W12-140 on the ground floor of the DOT West Building, 1200 New Jersey Avenue SE, Washington, DC 20590, between 9 a.m. and 5 p.m., ET, Monday through Friday, except Federal holidays.

C. Privacy Act

In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

II. Background

Under 49 U.S.C. 31136(e) and 31315(b), FMCSA may grant an exemption from the FMCSRs for no longer than a 5-year period if it finds such exemption would likely achieve a level of safety that is equivalent to, or greater than, the level that would be achieved absent such exemption. The statute also allows the Agency to renew exemptions at the end of the 5-year period. FMCSA grants medical exemptions from the FMCSRs for a 2-year period to align with the maximum duration of a driver's medical certification.

The physical qualification standard for drivers regarding vision found in 49 CFR 391.41(b)(10) states that a person is physically qualified to drive a CMV if that person has distant visual acuity of at least 20/40 (Snellen) in each eye without corrective lenses or visual acuity separately corrected to 20/40 (Snellen) or better with corrective lenses, distant binocular acuity of a least 20/40 (Snellen) in both eyes with or without corrective lenses, field of vision of at least 70° in the horizontal meridian in each eye, and the ability to recognize the colors of traffic signals and devices showing red, green, and amber.

The 95 individuals listed in this notice have requested renewal of their exemptions from the vision standard in § 391.41(b)(10), in accordance with FMCSA procedures. Accordingly, FMCSA has evaluated these applications for renewal on their merits and decided to extend each exemption for a renewable 2-year period.

III. Request for Comments

Interested parties or organizations possessing information that would otherwise show that any, or all, of these drivers are not currently achieving the statutory level of safety should immediately notify FMCSA. The Agency will evaluate any adverse evidence submitted and, if safety is being compromised or if continuation of the exemption would not be consistent with the goals and objectives of 49 U.S.C. 31136(e) and 31315(b), FMCSA will take immediate steps to revoke the exemption of a driver.

IV. Basis for Renewing Exemptions

In accordance with 49 U.S.C. 31136(e) and 31315(b), each of the 95 applicants has satisfied the renewal conditions for obtaining an exemption from the vision standard (see 66 FR 30502; 66 FR 41654; 68 FR 44837; 68 FR 52811; 68 FR 61860; 70 FR 17504; 70 FR 30997; 70 FR 30999; 70 FR 41811; 70 FR 46567; 70 FR 48797; 70 FR 61165; 70 FR 61493; 72 FR 180; 72 FR 9397; 72 FR 27624; 72 FR 39879; 72 FR 40359; 72 FR 40362; 72 FR 52419; 72 FR 54971; 73 FR 51689; 73 FR 63047; 74 FR 23472; 74 FR 26461; 74 FR 34074; 74 FR 34395; 74 FR 34630; 74 FR 37295; 74 FR 41971; 74 FR 48343; 74 FR 49069; 74 FR 53581; 75 FR 65057; 75 FR 66423; 75 FR 77492; 75 FR 79081; 76 FR 5425; 76 FR 17481; 76 FR 25766; 76 FR 28125; 76 FR 32017; 76 FR 34136; 76 FR 37169; 76 FR 37885; 76 FR 44652; 76 FR 44653; 76 FR 49528; 76 FR 50318; 76 FR 53708; 76 FR 54530; 76 FR 55463; 76 FR 55465; 76 FR 61143; 76 FR 62143; 76 FR 64171; 76 FR 67246; 77 FR 70537; 78 FR 800; 78 FR 4531; 78 FR 14410; 78 FR 22598; 78 FR 24300; 78 FR 24798; 78 FR 32708; 78 FR 34143; 78 FR 37270; 78 FR 37274; 78 FR 41975; 78 FR 46407; 78 FR 47818; 78 FR 52602; 78 FR 56986; 78 FR 56993; 78 FR 63307; 78 FR 68137; 78 FR 77782; 78 FR 78477; 79 FR 4531; 79 FR 53708; 80 FR 12248; 80 FR 15863; 80 FR 26139; 80 FR 29152; 80 FR 29154; 80 FR 31635; 80 FR 31636; 80 FR 35699; 80 FR 36395; 80 FR 37718; 80 FR 40122; 80 FR 41547; 80 FR 41548; 80 FR 44188; 80 FR 48402; 80 FR 48404; 80 FR 48409; 80 FR 48411; 80 FR 48413; 80 FR 49302; 80 FR 50915; 80 FR 50917; 80 FR 59225; 80 FR 62161; 80 FR 62163; 81 FR 86063; 81 FR 96165; 82 FR 12678; 82 FR 12683; 82 FR 15277; 82 FR 18949; 82 FR 18954; 82 FR 22379; 82 FR 24430; 82 FR 28734; 82 FR 33542; 82 FR 34564; 82 FR 35043; 82 FR 35050; 82 FR 43647; 82 FR 47295; 82 FR 47296; 82 FR 47312; 83 FR 2289; 83 FR 4537). They have submitted evidence showing that the vision in the better eye continues to meet the requirement specified at § 391.41(b)(10) and that the vision impairment is stable. In addition, a review of each record of safety while driving with the respective vision deficiencies over the past 2 years indicates each applicant continues to meet the vision exemption requirements. These factors provide an adequate basis for predicting each driver's ability to continue to drive safely in interstate commerce. Therefore, FMCSA concludes that extending the exemption for each renewal applicant for a period of 2 years is likely to achieve a level of safety equal to that existing without the exemption.

In accordance with 49 U.S.C. 31136(e) and 31315(b), the following groups of drivers received renewed exemptions in the month of October and are discussed below. As of October 3, 2019, and in accordance with 49 U.S.C. 31136(e) and 31315, the following 58 individuals have satisfied the renewal conditions for obtaining an exemption from the vision requirement in the FMCSRs for interstate CMV drivers (66 FR 30502; 66 FR 41654; 68 FR 44837; 70 FR 17504; 70 FR 30997; 70 FR 30999; 70 FR 41811; 70 FR 46567; 72 FR 180; 72 FR 9397; 72 FR 27624; 72 FR 39879; 72 FR 40359; 72 FR 40362; 72 FR 52419; 73 FR 51689; 73 FR 63047; 74 FR 23472; 74 FR 26461; 74 FR 34074; 74 FR 34395; 74 FR 34630; 74 FR 37295; 74 FR 41971; 74 FR 48343; 75 FR 65057; 75 FR 66423; 75 FR 77492; 75 FR 79081; 76 FR 5425; 76 FR 17481; 76 FR 25766; 76 FR 28125; 76 FR 32017; 76 FR 34136; 76 FR 37169; 76 FR 37885; 76 FR 44652; 76 FR 44653; 76 FR 49528; 76 FR 50318; 76 FR 53708; 76 FR 54530; 76 FR 55463; 76 FR 61143; 77 FR 70537; 78 FR 800; 78 FR 4531; 78 FR 14410; 78 FR 22598; 78 FR 24300; 78 FR 24798; 78 FR 32708; 78 FR 34143; 78 FR 37270; 78 FR 37274; 78 FR 41975; 78 FR 46407; 78 FR 52602; 78 FR 56986; 78 FR 56993; 78 FR 77782; 78 FR 78477; 79 FR 4531; 79 FR 53708; 80 FR 12248; 80 FR 15863; 80 FR 26139; 80 FR 29152; 80 FR 29154; 80 FR 31635; 80 FR 31636; 80 FR 35699; 80 FR 36395; 80 FR 37718; 80 FR 40122; 80 FR 41547; 80 FR 41548; 80 FR 44188; 80 FR 48402; 80 FR 48404; 80 FR 48409; 80 FR 48411; 80 FR 48413; 80 FR 49302; 80 FR 50915; 80 FR 50917; 80 FR 59225; 80 FR 62161; 80 FR 62163; 81 FR 86063; 81 FR 96165; 82 FR 12678; 82 FR 12683; 82 FR 15277; 82 FR 18949; 82 FR 18954; 82 FR 22379; 82 FR 24430; 82 FR 28734; 82 FR 33542; 82 FR 34564; 82 FR 35043; 82 FR 35050; 82 FR 47295; 82 FR 47296; 82 FR 47312; 83 FR 4537):

Michael T. Allen (NV)

Joel D. Barchard (MA)

Rocky B. Bentz (WI)

Johnny A. Bingham (NC)

Keith A. Bliss (NY)

Fred Boggs (WV)

Michael W. Britt (MD)

Harry S. Bumps (VT)

Shaun E. Burnett (IA)

Kevin W. Cannon (TX)

Juan R. Cano (TX)

Todd A. Chapman (NC)

Larry O. Cheek (CA)

Thomas W. Crouch (IN)

Erik R. Davis (GA)

David S. Devine (ID)

Sean J. Dornin (PA)

Verlin L. Driskell (NE)

Robin C. Duckett (SC)

Bobby C. Floyd (TN)

Steven G. Garrett (CA)

Steven A. Garrity (MA)

Mark E. Gessner (FL)

Dale L. Giardine (PA)

David B. Ginther (PA)

Mark A. Grenier (CT)

Willard D. Hall (CA)

David A. Hayes (GA)

Steven C. Holland (OK)

Rufus L. Jones (NJ)

Udum Khamsoksavath (WA)

Bruce A. Lloyd (MA)

Alex P. Makhanov (WA)

Michael L. Martin (OH)

Dean A. Maystead (MI)

Lawrence McGowan (OH)

David McKinney (OR)

Dionicio Mendoza (TX)

William F. Nickel, V (OR)

Jason C. Nicklow (PA)

Russell W. Nutter (OH)

Gary A. Oster (OR)

Richard E. Perry (CA)

Nathan Pettis (FL)

Mark A. Pirl (NC)

Jason W. Rupp (PA)

Kirby R. Sands (IA)

Bobby Sawyers (PA)

Calvin J. Schaap (MN)

Ernesto Silva (NM)

Larry D. Steiner (MN)

Steven W. Stull (IL)

Terrance W. Temple (OH)

James L. Tinsley, Jr. (VA)

John Vanek (MO)

Victor H. Vera (TX)

Stephen W. Verrette (MI)

Daniel E. Watkins (FL)

The drivers were included in docket numbers FMCSA-2001-9561; FMCSA-2005-20560; FMCSA-2005-21254; FMCSA-2007-25246; FMCSA-2007-27897; FMCSA-2008-0266; FMCSA-2009-0121; FMCSA-2009-0154; FMCSA-2010-0327; FMCSA-2010-0385; FMCSA-2011-0024; FMCSA-2011-0092; FMCSA-2011-0124; FMCSA-2011-0140; FMCSA-2011-0142; FMCSA-2013-0026; FMCSA-2013-0027; FMCSA-2013-0029; FMCSA-2013-0030; FMCSA-2014-0302; FMCSA-2015-0048; FMCSA-2015-0049; FMCSA-2015-0052; FMCSA-2015-0053; FMCSA-2015-0055; FMCSA-2016-0212; FMCSA-2016-0214; FMCSA-2017-0016; FMCSA-2017-0018; FMCSA-2017-0019; and FMCSA-2017-0020. Their exemptions are applicable as of October 3, 2019, and will expire on October 3, 2021.

As of October 19, 2019, and in accordance with 49 U.S.C. 31136(e) and 31315, the following 15 individuals have satisfied the renewal conditions for obtaining an exemption from the vision requirement in the FMCSRs for interstate CMV drivers (82 FR 43647; 83 FR 2289):

Paul A. Bartels (WI)

Charles C. Berns (IA)

Jeremiah E. Casey (MO)

Leonard M. Cassieri (CA)

Jimmie E. Curtis (NM)

Jonathan P. Edwards (PA)

James A. Green (IL)

Richard Healy (MD)

Stephen M. Lovell (TX)

Carlos Marquez (WI)

Jason L. McBride (MI)

Dennis M. Olson (WI)

Daniel C. Sagert (WI)

Robert D. Steele (WA)

Daniel D. Woodworth (FL)

The drivers were included in docket number FMCSA-2017-0023. Their exemptions are applicable as of October 19, 2019, and will expire on October 19, 2021.

As of October 23, 2019, and in accordance with 49 U.S.C. 31136(e) and 31315, the following six individuals have satisfied the renewal conditions for obtaining an exemption from the vision requirement in the FMCSRs for interstate CMV drivers (78 FR 47818; 78 FR 63307; 80 FR 59225; 82 FR 47312):

Larry E. Blakely (GA)

Arlene S. Kent (NH)

Willie L. Murphy (IN)

Joseph J. Pudlik (IL)

Jeffrey R. Swett (SC)

Brian C. Tate (VA)

The drivers were included in docket number FMCSA-2013-0165. Their exemptions are applicable as of October 23, 2019, and will expire on October 23, 2021.

As of October 24, 2019, and in accordance with 49 U.S.C. 31136(e) and 31315, the following eight individuals have satisfied the renewal conditions for obtaining an exemption from the vision requirement in the FMCSRs for interstate CMV drivers (66 FR 30502; 66 FR 41654; 68 FR 44837; 70 FR 30999; 70 FR 41811; 70 FR 46567; 70 FR 48797; 70 FR 61493; 72 FR 40359; 72 FR 54971; 74 FR 34074; 74 FR 49069; 76 FR 62143; 78 FR 77782; 80 FR 59225; 82 FR 47312):

Andrew B. Clayton (TN)

William P. Doolittle (MO)

Jonathan M. Gentry (TN)

Benny D. Hatton, Jr. (NY)

Robert W. Healey, Jr. (NJ)

Thomas W. Markham (MN)

Kevin L. Moody (OH)

John C. Young (VA)

The drivers were included in docket numbers FMCSA-2001-9561; FMCSA-2005-21254; FMCSA-2005-21711. Their exemptions are applicable as of October 24, 2019, and will expire on October 24, 2021.

As of October 30, 2019, and in accordance with 49 U.S.C. 31136(e) and 31315, the following four individuals have satisfied the renewal conditions for obtaining an exemption from the vision requirement in the FMCSRs for interstate CMV drivers (68 FR 52811; 68 FR 61860; 70 FR 61165; 74 FR 53581; 76 FR 64171; 78 FR 68137; 80 FR 59225; 82 FR 47312):

Dewayne E. Harms (IL)

Jesse L. Townsend (LA)

James A. Welch (NH)

Michael E. Yount (ID)

The drivers were included in docket number FMCSA-2003-15892. Their exemptions are applicable as of October 30, 2019, and will expire on October 30, 2021.

As of October 31, 2019, and in accordance with 49 U.S.C. 31136(e) and 31315, the following four individuals have satisfied the renewal conditions for obtaining an exemption from the vision requirement in the FMCSRs for interstate CMV drivers (76 FR 55465; 76 FR 67246; 78 FR 77782; 80 FR 59225; 82 FR 47312):

Darrell G. Anthony (TX)

Harold L. Pearsall (PA)

Phillip M. Pridgen, Sr. (MD)

Gerald D. Stidham (CO)

The drivers were included in docket number FMCSA-2011-0189. Their exemptions are applicable as of October 31, 2019, and will expire on October 31, 2021.

V. Conditions and Requirements

The exemptions are extended subject to the following conditions: (1) Each driver must undergo an annual physical examination (a) by an ophthalmologist or optometrist who attests that the vision in the better eye continues to meet the requirements in 49 CFR 391.41(b)(10), and (b) by a certified medical examiner (ME), as defined by § 390.5, who attests that the driver is otherwise physically qualified under § 391.41; (2) each driver must provide a copy of the ophthalmologist's or optometrist's report to the ME at the time of the annual medical examination; and (3) each driver must provide a copy of the annual medical certification to the employer for retention in the driver's qualification file or keep a copy of his/her driver's qualification if he/her is self-employed. The driver must also have a copy of the exemption when driving, for presentation to a duly authorized Federal, State, or local enforcement official. The exemption will be rescinded if: (1) The person fails to comply with the terms and conditions of the exemption; (2) the exemption has resulted in a lower level of safety than was maintained before it was granted; or (3) continuation of the exemption would not be consistent with the goals and objectives of 49 U.S.C. 31136(e) and 31315(b).

VI. Preemption

During the period the exemption is in effect, no State shall enforce any law or regulation that conflicts with this exemption with respect to a person operating under the exemption.

VI. Conclusion

Based upon its evaluation of the 95 exemption applications, FMCSA renews the exemptions of the aforementioned drivers from the vision requirement in § 391.41(b)(10), subject to the requirements cited above. In accordance with 49 U.S.C. 31136(e) and 31315(b), each exemption will be valid for two years unless revoked earlier by FMCSA.

Issued on: August 29, 2019.
Larry W. Minor,
Associate Administrator for Policy.

[FR Doc. 2019-19283 Filed 9-5-19; 8:45 am]

BILLING CODE 4910-EX-P